DEPARTMENT OF ENERGY

Federal Energy Regulatory Commission

Combined Notice of Filings No. 1

October 19, 2010.

Take notice that the Commission has received the following Natural Gas Pipeline Rate and Refund Report filings:

Docket Numbers: RP11-72-000.

Applicants: Petal Gas Storage, L.L.C.

Description: Petal Gas Storage, L.L.C. submits tariff filing per 154.204: Petal NAESB 1.9 Extension (Standard 5.3.61) to be effective 11/2/2010.

Filed Date: 10/18/2010.

Accession Number: 20101018-5117.

Comment Date: 5 p.m. Eastern Time on Friday, October 22, 2010.

Docket Numbers: RP11-73-000.

Applicants: Centra Pipelines Minnesota Inc.

Description: Centra Pipelines Minnesota Inc. submits tariff filing per 154.204: Revised Index of Shippers Filing to be effective 12/1/2010.

Filed Date: 10/18/2010.

Accession Number: 20101018-5145.

Comment Date: 5 p.m. Eastern Time on Monday, November 01, 2010.

Docket Numbers: RP11-74-000.

Applicants: Northern Natural Gas Company.

Description: Northern Natural Gas filed a Petition for a Limited Waiver of Northern's FERC Gas Tariff filed to allow resolution of a prior period imbalance for Great Plains Natural Gas Co. by tiering of the Monthly Index Price.

Filed Date: 10/18/2010.

Accession Number: 20101018-5153.

Comment Date: 5 p.m. Eastern Time on Monday, November 01, 2010.

Docket Numbers: RP11-75-000.

Applicants: Arlington Storage Company, LLC.

Description: Arlington Storage Company, LLC submits tariff filing per 154.203: Compliance filing of ASC in Docket Nos. RP10-1260-000 and RP10-1260-001 to be effective 10/18/2010.

Filed Date: 10/18/2010.

Accession Number: 20101018-5174.

Comment Date: 5 p.m. Eastern Time on Monday, November 01, 2010.

Docket Numbers: RP11-76-000.

Applicants: Bison Pipeline LLC.

Description: Bison Pipeline LLC submits tariff filing per 154.203: Baseline Filing.

Filed Date: 10/18/2010.

Accession Number: 20101018-5183.

Comment Date: 5 p.m. Eastern Time on Monday, November 01, 2010.

Docket Numbers: RP11-77-000.

Applicants: Guardian Pipeline, L.L.C.

Description: Guardian Pipeline, L.L.C. submits tariff filing per 154.204: Chevron Park and Loan to be effective 10/25/2010.

Filed Date: 10/18/2010.

Accession Number: 20101018-5192.

Comment Date: 5 p.m. Eastern Time on Monday, November 01, 2010.

Docket Numbers: RP11-78-000.

Applicants: Central New York Oil and Gas, LLC.

Description: Central New York Oil and Gas, LLC submits a revised tariff sheet to comply with Order No. 587-U.

Filed Date: 10/19/2010.

Accession Number: 20101019-5003.

Comment Date: 5 p.m. Eastern Time on Monday, November 01, 2010.

Docket Numbers: RP11-79-000.

Applicants: Steuben Gas Storage Company.

Description: Steuben Gas Storage Company submits a revised tariff sheet to comply with Order 587-U etc, to be effective 10/18/2010.

Filed Date: 10/19/2010.

Accession Number: 20101019-5004.

Comment Date: 5 p.m. Eastern Time on Monday, November 01, 2010.

Docket Numbers: RP11-80-000.

Applicants: Kinder Morgan Interstate Gas Transmission LLC.

Description: Kinder Morgan Interstate Gas Transmission LLC submits tariff filing per 154.204: Negotiated Rate 10-19-10 Mieco to be effective 10/19/2010.

Filed Date: 10/19/2010.

Accession Number: 20101019-5055.

Comment Date: 5 p.m. Eastern Time on Monday, November 01, 2010.

Docket Numbers: RP11-1413-000.

Applicants: Venice Gathering System, L.L.C.

Description: Venice Gathering System, L.L.C. submits tariff filing per 154.203: Venice Gathering System Rate Settlement Compliance Filing to be effective 11/1/2010.

Filed Date: 10/19/2010.

Accession Number: 20101019-5127.

Comment Date: 5 p.m. Eastern Time on Wednesday, October 27, 2010.

Docket Numbers: RP11-1414-000.

Applicants: Algonquin Gas Transmission, LLC.

Description: Algonquin Gas Transmission, LLC submits tariff filing per 154.403(d)(2): AGT FRQ 2010 FILING to be effective 12/1/2010.

Filed Date: 10/19/2010.

Accession Number: 20101019-5132.

Comment Date: 5 p.m. Eastern Time on Monday, November 01, 2010.

Docket Numbers: RP11-1415-000.

Applicants: Arlington Storage Company, LLC.

Description: Arlington Storage Company, LLC submits tariff filing per 154.203: Compliance filing of Arlington Storage in Dockets CP10-99-000 and CP10-100-000 to be effective 10/19/2010.

Filed Date: 10/19/2010.

Accession Number: 20101019-5167.

Comment Date: 5 p.m. Eastern Time on Monday, November 01, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-26858 Filed 10-22-10; 8:45 am]

BILLING CODE 6717-01-P